DEPARTMENT OF TRANSPORTATION

Federal Aviation Administration

24th Meeting: RTCA Special Committee 206: EUROCAE WG 76 Plenary: AIS and MET Data Link Services

AGENCY: Federal Aviation Administration (FAA), DOT.

ACTION: Notice of RTCA Special Committee 206: EUROCAE WG 76 Plenary: AIS and MET Data Link Services meeting.

SUMMARY: The FAA is issuing this notice to advise the public of a meeting of RTCA Special Committee 206: EUROCAE WG 76 Plenary: AIS and MET Data Link Services.

DATES: The meeting will be held March 21-25, 2011 from 9 a.m. to 5 p.m.

ADDRESSES: The meeting will be held at Honeywell Aerospace, Phoenix (DV), 21111 North 19th Avenue, Phoenix, AZ 85027-2704.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 206: EUROCAE WG 76 Plenary: AIS and MET Data Link Services meeting. The agenda will include:

March 21—Monday

• 9 a.m.—Opening Plenary.

• Chairmen's remarks and Host's comments.

• Introductions.

• Approval of previous meeting minutes.

• Review and approve meeting agenda.

• Schedule for this week.

• Action Item Review.

• Working Group 1, Work Plan—WG1 Chairmen.

• Working Group 2, Work Plan—WG2 Chairmen.

• Working Group 3, Recommendations—WG3 Chairmen.

• Current status and deliverables of SESAR JU Project 08.03.03 (Identify and Develop Aeronautical (and Meteorological) ATM Information Services)—Roger Li.

• 1 p.m.—WG1, WG2, and WG3 Meetings.

March 22-24, Tuesday, Wednesday, and Thursday

• 9 a.m.—WG1, WG2, and WG3 Meetings.

March 25—Friday

• 9 a.m.—WG1, WG2, and WG3 Meetings.

• 10 a.m.—Plenary Session.

• Working Group Reports.

• Action Item Review.

• Other Business.

• Meeting plans and dates.

• 12 p.m.—Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 25, 2011.
Robert L. Bostiga,
RTCA Advisory Committee.

[FR Doc. 2011-4814 Filed 3-2-11; 8:45 am]

BILLING CODE 4910-13-P